SMALL BUSINESS ADMINISTRATION

[Disaster Declaration #11176 and #11177]

Alabama Disaster Number AL-00012

AGENCY: U.S. Small Business Administration.

ACTION: Amendment 1.

SUMMARY: This is an amendment of the Administrative declaration of a major disaster for the State of Alabama, dated 02/21/2008.

Incident: Severe Storm and Tornadoes.

Incident Period: 02/05/2008 through 02/06/2008.

Effective Date: 04/01/2008.

Physical Loan Application Deadline Date: 06/20/2008.

EIDL Loan Application Deadline Date: 11/21/2008.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of an Administrative declaration for the State of Alabama, dated 02/21/2008 is hereby amended to include the following areas as adversely affected by the disaster.

Primary Counties: Jackson.

Contiguous Counties: Alabama:

Dekalb, Madison, Marshall.

Georgia:

Dade.

Tennessee:

Franklin, Marion.

The notice of an Administrative declaration for the State of Alabama is also amended to extend the deadline for filing applications for physical damages as a result of this disaster to 06/20/2008.

All other information in the original declaration remains unchanged.

(Catalog of Federal Domestic Assistance Numbers 59002 and 59008)

Dated: April 1, 2008.
Steven C. Preston,
Administrator.

[FR Doc. E8-7362 Filed 4-7-08; 8:45 am]

BILLING CODE 8025-01-P